DEPARTMENT OF THE TREASURY

Office of the Secretary

31 CFR Part 1

RIN 1545-AC47

Privacy Act, Implementation

AGENCY: Internal Revenue Service, Treasury.

ACTION: Final rule.

SUMMARY: In accordance with the requirements of the Privacy Act of 1974, as amended, the Department of the Treasury gives notice of an amendment to this part to reflect revisions of existing Internal Revenue Service (IRS) systems of records and to exempt the resulting revised systems of records from certain provisions of the Privacy Act. Criminal Investigation has revised five systems of records and deleted one system of records. This final rule applies the previously approved exemptions to the newly revised and renamed systems of records.

DATES: Effective April 7, 2014.

ADDRESSES: Please submit comments to Anne Jensen, Tax Law Specialist, Office of Privacy, Governmental Liaison, and Disclosure, 1111 Constitution Avenue NW., Room 1621, Washington, DC 20224. Comments will be made available for inspection at the IRS Freedom of Information Reading Room (Room 1621), at the above address. The telephone number for the Reading Room is (202) 317-4997 (not a toll-free call).

FOR FURTHER INFORMATION CONTACT: Anne Jensen, Tax Law Specialist, Office of Privacy, Governmental Liaison, and Disclosure, 1111 Constitution Avenue NW., Room 1621, Washington, DC 20024. Ms. Jensen may be reached via telephone at (202) 317-4997 (not a toll-free number).

SUPPLEMENTARY INFORMATION: 5 U.S.C. 552a(j)(2): Under 5 U.S.C. 552a(j)(2), the head of any agency may promulgate rules to exempt any system of records within the agency from certain provisions of the Privacy Act of 1974 if the agency or component thereof that maintains the system performs as its principal function any activities pertaining to the enforcement of criminal laws. Certain components of the Department of the Treasury have as their principal function activities pertaining to the enforcement of criminal laws. The IRS is hereby giving notice of a final rule to exempt “Treasury/IRS 46.002, Management Information System and Case Files, Criminal Investigation”; “Treasury/IRS 46.003, Confidential Informant Records, Criminal Investigation”; “Treasury/IRS 46.005, Electronic Surveillance and Monitoring Records, Criminal Investigation”; “Treasury/IRS 46.015, Relocated Witness Records, Criminal Investigation”; and “Treasury/IRS 46.050, Automated Information Analysis and Recordkeeping, Criminal Investigation,” from certain provisions of the Privacy Act of 1974, pursuant to 5 U.S.C. 552a(j)(2) to the extent these records capture criminal matters; otherwise 5 U.S.C. 552(k)(2) applies as described in subsequent sections.

The exemptions pursuant to 5 U.S.C. 552a(j)(2) are from the provisions 5 U.S.C. 552a(c)(3) and (4), 5 U.S.C. 552a(d)(1), (2), (3), (4), 5 U.S.C. 552a(e)(1), (2) and (3), 5 U.S.C. 552a(e)(4)(G), (H), and (I), 5 U.S.C. 552a(e)(5) and (8), 5 U.S.C. 552a(f), and 5 U.S.C. 552a(g). As published in Part 1, Subpart C, of title 31 of the Code of Federal Regulations, section 1.36, these exemptions already apply to the records to which this final rule applies, therefore the reasons for the exemptions are not repeated here.

SUPPLEMENTARY INFORMATION: Under 5 U.S.C. 552a(k)(2), the head of an agency may promulgate rules to exempt a system of records from certain provisions of 5 U.S.C. 552a if the system is investigatory material compiled for law enforcement purposes. The IRS is hereby giving notice of a final rule to exempt “Treasury/IRS 46.050, Automated Information Analysis and Recordkeeping” from certain provisions of the Privacy Act of 1974, pursuant to 5 U.S.C. 552a(k)(2).

The exemptions pursuant to 5 U.S.C. 552a(k)(2) are from the provisions (c)(3), (d)(1)-(4), (e)(1), (e)(4)(G)-(I), and (f) because the system contains investigatory material compiled for law enforcement purposes. As published in Part 1, Subpart C, of title 31 of the Code of Federal Regulations, section 1.36, these exemptions already apply to the records to which this final rule applies; therefore the reasons for the exemptions are not repeated here.

As required by Executive Order 12866, it has been determined that this final rule is not a significant regulatory action, and therefore, does not require a regulatory impact analysis.

The regulation will not have a substantial direct effect on the States, on the relationship between the Federal Government and the States, or on the distribution of power and responsibilities among the various levels of government. Therefore, it is determined that this final rule does not have federalism implications under Executive Order 13132.

Pursuant to the requirements of the Regulatory Flexibility Act, 5 U.S.C. 601-612, it is hereby certified that these regulations will not significantly affect a substantial number of small entities. The final rule imposes no duties or obligations on small entities.

In accordance with the provisions of the Paperwork Reduction Act, the Department of the Treasury has determined that the revision of the systems or records notices would not impose new recordkeeping, application, reporting, or other types of information collection requirements.

List of Subjects in 31 CFR Part 1

Privacy.

Part 1, Subpart C of title 31 of the Code of Federal Regulations is amended as follows:

PART 1—[AMENDED]

1. The authority citation for part 1 continues to read as follows:

Authority: 5 U.S.C. 301 and 31 U.S.C. 321. Subpart A also issued under 5 U.S.C. 552, as amended. Subpart C also issued under 5 U.S.C. 552a.

2. In § 1.36;

a. In the table in paragraph (c)(1)(vii):

i. Revise the entries for IRS 46.002, 46.003, and 46.005;

ii. Remove the entry for IRS 46.009;

iii. Revise the entry for IRS 46.015;

iv. Remove the entry for IRS 46.022; and

v. Revise the entry for IRS 46.050.

b. In the table in paragraph (g)(1)(vii), revise the entry for IRS 46.050.

The revisions read as follows:

§ 1.36 Systems exempt in whole or in part from provisions of 5 U.S.C. 552a and this part.

* * * * *

(c) * * *

(1) * * *

(vii) * * *

No. | System name
Treasury/IRS 46.002 | Management Information System and Case Files, Criminal Investigation.
Treasury/IRS 46.003 | Confidential Informant Records, Criminal Investigation.
Treasury/IRS 46.005 | Electronic Surveillance and Monitoring Records, Criminal Investigation.
Treasury/IRS 46.015 | Relocated Witness Records, Criminal Investigation.
Treasury/IRS 46.050 | Automated Information Analysis and Recordkeeping, Criminal Investigation.

* * * * *

(g) * * *

(1) * * *

(vii) * * *

No. | System name
Treasury/IRS 46.050 | Automated Information Analysis and Recordkeeping, Criminal Investigation.

* * * * *

Dated: February 20, 2014.
Helen Goff Foster,
Deputy Assistant Secretary for Privacy, Transparency, and Records.

[FR Doc. 2014-04946 Filed 3-6-14; 8:45 am]

BILLING CODE 4830-01-P